DEPARTMENT OF COMMERCE

International Trade Administration

[A-351-843]

Certain Cold-Rolled Steel Flat Products From Brazil: Amended Preliminary Determination of Sales at Less Than Fair Value

AGENCY: Enforcement and Compliance, International Trade Administration, Department of Commerce.

SUMMARY: On March 7, 2016, the Department of Commerce (the Department) published the preliminary determination of sales at less than fair value (LTFV) in the antidumping investigation of certain cold-rolled steel flat products from Brazil.¹ We are amending our Preliminary Determination to correct for a ministerial error with respect to the calculation of the dumping margin for mandatory respondent Companhia Siderurgica National (CSN). The correction to CSN's margin affects the dumping margin applicable, as adverse facts available, to Usinas Siderurgicas de Minas Gerais (Usiminas), as well as the dumping margin applicable to all other companies.

¹ See Certain Cold-Rolled Steel Flat Products from Brazil: Affirmative Preliminary Determination of Sales at Less Than Fair Value, Postponement of Final Determination, and Extension of Provisional Measures, 81 FR 11754 (March 7, 2016) (Preliminary Determination).

DATES: Effective Date: March 7, 2016.

FOR FURTHER INFORMATION CONTACT: Hermes Pinilla or Joseph Shuler, AD/CVD Operations, Office I, Enforcement and Compliance, International Trade Administration, U.S. Department of Commerce, 1401 Constitution Avenue NW., Washington, DC 20230; telephone: (202) 482-3477 or (202) 482-1293, respectively.

SUPPLEMENTARY INFORMATION: On March 7, 2016, CSN timely filed an allegation that the Department made a significant ministerial error.² After reviewing the allegation, we have determined that the Preliminary Determination included a significant ministerial error. Therefore, we have made changes, as described below, to the Preliminary Determination.

² See CSN's March 7, 2016, submission.

Scope of Investigation

The product covered by this investigation is cold-rolled steel from Brazil. For a full description of the scope of this investigation, see Preliminary Determination, at Appendix I.

Significant Ministerial Error

A ministerial error is defined in 19 CFR 351.224(f) as “an error in addition, subtraction, or other arithmetic function, clerical error resulting from inaccurate copying, duplication, or the like, and any other similar type of unintentional error which the Secretary considers ministerial.” Further, 19 CFR 351.224(e) provides that the Department “will analyze any comments received and, if appropriate, correct any significant ministerial error by amending the preliminary determination.” A significant ministerial error is defined as a ministerial error, the correction of which, singly or in combination with other errors, would result in: (1) A change of at least five absolute percentage points in, but not less than 25 percent of, the weighted-average dumping margin calculated in the original (erroneous) preliminary determination; or (2) a difference between a weighted-average dumping margin of zero or de minimis and a weighted-average dumping margin of greater than de minimis or vice versa.³

³ See 19 CFR 351.224(g)(1) and (2).

Ministerial Error Allegation

CSN alleges that the Department committed a ministerial error by double-counting its processing cost when the Department revised CSN's cost of manufacturing. Specifically, CSN contends that in recalculating CSN's cost of manufacturing, the Department double counted its home market resellers' processing costs, which significantly overstated the derived costs for the foreign like product produced by CSN and its home market reseller. The Department reviewed CSN's reporting of processing costs and we agree with CSN that this is a ministerial error in accordance with 19 CFR 351.224(f).⁴ Moreover, pursuant to 19 CFR 351.224(g)(1), this error is significant because the correction of the error results in a change of at least 5 absolute percentage points, but not less than 25 percent, of the weighted-average dumping margin from the Preliminary Determination. Therefore, we are correcting the error alleged by CSN, and we are amending our preliminary determination accordingly.

⁴ See Memorandum to Christian Marsh, Deputy Assistant Secretary for Antidumping and Countervailing Duty Operations, from James Maeder, Senior Director, Office I, Antidumping and Countervailing Duty Operations, dated March 28, 2016.

Amended Preliminary Determination

We are amending the preliminary determination of sales at less than fair value for cold-rolled flat steel produts from Brazil to reflect the correction of a ministerial error made in the margin calculations of that determination. As a result of the correction of the ministerial error, we have also revised the dumping margins applicable to Usiminas ⁵ and to all other companies. The revised dumping margins are as follows:

⁵ See Memorandum titled “Certain Cold-Rolled Steel Flat Products from Brazil: Corroboration of a Rate Based on Adverse Facts Available,” dated concurrently with this notice.

Exporter/Producer | Weighted- average margin (percent)
Companhia Siderurgica Nacional | 20.84
Usinas Siderurgicas de Minas Gerais S.A. (Usiminas) | 35.43
All-Others | 20.84

Suspension of Liquidation

The collection of cash deposits will be revised in accordance with sections 733(d) and (f) of the Act and 19 CFR 351.224. Because the correction of the error for CSN results in a reduced cash deposit rate for all of the respondents, the revised rates calculated for CSN, Usiminas, and companies covered by the “all others” rate will be effective retroactively to March 7, 2016, the date of publication of the Preliminary Determination.

Pursuant to section 733(d)(1)(B) of the Act and 19 CFR 351.205(d), the Department will instruct CBP to require a cash deposit equal to the weighted-average amount by which the NV exceeds U.S. price, adjusted where appropriate for export subsidies, as follows: (1) The rates for CSN and Usiminas, when adjusted for export subsidies, are 16.71 and 31.61 percent, respectively; (2) if the exporter is not a firm identified in this investigation, but the producer is, the rate will be the rate established for the producer of the subject merchandise, less export subsidies; (3) the rate for all other producers or exporters when adjusted for export subsidies is 16.86 percent.⁶ These suspension of liquidation instructions will remain in effect until further notice.

⁶ See Countervailing Duty Investigation of Certain Cold-Rolled Steel Flat Products From Brazil: Preliminary Affirmative Determination and Alignment of Final Determination With Final Antidumping Duty Determination, 80 FR 79569 (Dec. 22, 2015) and the accompanying preliminary decision memorandum, dated December 15, 2015; see also the All-Others Rate Memorandum, dated concurrently with this notice.

International Trade Commission Notification

In accordance with section 733(f) of the Act, we are notifying the International Tade Commission (ITC) of our amended affirmative preliminary determination of sales at LTFV. If our final determination is affirmative, the ITC will determine before the later of 120 days after the date of this preliminary determination or 45 days after our final determination whether these imports are materially injuring, or threaten material injury to, the U.S. industry.

Notification to Interested Parties

The Department intends to disclose calculations performed in connection with this amended preliminary determination within five days of the date of publication of this notice in accordance with 19 CFR 351.224(b).

This determination is issued and published in accordance with sections 733(f) and 777(i) of the Act and 19 CFR 351.224(e).

Dated: April 1, 2016.
Paul Piquado,
Assistant Secretary for Enforcement and Compliance.

[FR Doc. 2016-08010 Filed 4-6-16; 8:45 am]

BILLING CODE 3510-DS-P